FEDERAL COMMUNICATIONS COMMISSION

47 CFR Part 90

[WT Docket No. 96-86; FCC 00-264]

Public Safety 700 MHz Band

AGENCY: Federal Communications Commission.

ACTION: Final rule; announcement of effective date.

SUMMARY: The Federal Communications Commission (Commission) announces that a certain rule adopted in its Public Safety 700 MHz Band proceeding (WT Docket No. 96-86; FCC 00-264) in 2000, to the extent it contained an information collection requirement that required approval by the Office of Management and Budget (OMB) was approved, and became effective November 15, 2000, following approval by OMB.

DATES: The effective date for the final rule published on September 5, 2000 (65 FR 53645) revising 47 CFR 90.176 is November 15, 2000.

FOR FURTHER INFORMATION CONTACT: Rodney P. Conway, Wireless Telecommunications Bureau, at (202) 418-2904, or at Judith-B.Herman@fcc.gov.

Announcement of Effective Date of a Certain Commission Rule

1. On July 21, 2000, the Commission adopted a Second Memorandum Opinion and Order (2nd MO&O) in WT Docket No. 96-86; FCC 00-264, a summary of which was published at 65 FR 53641 (September 5, 2000). In that 2nd MO&O, the Commission stated that, upon OMB approval, it would publish in the Federal Register a document announcing the effective date of the change to 47 CFR 90.176.

2. On November 15, 2000, OMB approved the public information collection associated with this rule change under OMB Control No. 3060-0783. Therefore, the change to 47 CFR 90.176 became effective on November 15, 2000.

Federal Communications Commission.
Marlene H. Dortch,
Secretary.

[FR Doc. E7-17454 Filed 9-6-07; 8:45 am]

BILLING CODE 6712-01-P